DEPARTMENT OF ENERGY

Federal Energy Regulatory Commission

[Docket No. RP02-134-003]

Maritimes & Northeast Pipeline L.L.C.; Notice of Compliance Filing

April 18, 2003.

Take notice that on April 15, 2003, Maritimes & Northeast Pipeline, L.L.C. (Maritimes) tendered for filing as part of its FERC Gas Tariff, First Revised Volume No. 1, the following tariff sheets to become effective on April 1, 2003.

Third Revised Sheet No. 7

Third Revised Sheet No. 8

Fourth Revised Sheet No. 12

Fourth Revised Sheet No. 13

Fourth Revised Sheet No. 14

Maritimes states that the purpose of this filing is to comply with the Commission's order dated March 12, 2003, (March 12 Order), in Docket Nos. RP02-134, et al.Maritimes states that the March 12 Order approved an uncontested Stipulation and Agreement (Settlement) filed by Maritimes on December 20, 2002.

Maritimes states that the Settlement resolved all issues set for hearing in a rate proceeding under Section 5 of the Natural Gas Act in Docket Nos. RP02-134, et al., and that the March 12 Order approving the Settlement also approved the tariff changes tendered in the instant filing, which tariff changes were submitted on pro forma tariff sheets as part of the Settlement. The March 12 Order directed that Maritimes file the instant tariff sheets by the deadline specified in the Settlement.

Maritimes states that copies of this filing were mailed to all affected customers of Maritimes and interested state commissions, as well as all parties on the Commission's Official Service List compiled by the Secretary in this proceeding.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 28, 2003.

Magalie R. Salas,
Secretary.

[FR Doc. 03-10208 Filed 4-23-03; 8:45 am]

BILLING CODE 6717-01-P